DEPARTMENT OF THE INTERIOR

National Park Service

Badlands National Park; Environmental Statements; Notice of Intent

AGENCY: National Park Service, Interior.

ACTION: Notice of Intent to prepare a general management plan and environmental impact statement for Badlands National Park, South Dakota.

SUMMARY: The National Park Service (NPS) will prepare a general management plan (GMP) and an associated environmental impact statement (EIS) for Badlands National Park, South Dakota, in accordance with section 102(2)(C) of the National Environmental Policy Act of 1969 (NEPA). This notice is being furnished as required by NEPA Regulations 40 CFR 1501.7.

To facilitate sound planning and environmental assessment, the NPS intends to gather information necessary for the preparation of the EIS, and to obtain suggestions and information from other agencies and the public on the scope of issues to be addressed in the EIS. Comments and participation in this scoping process are invited.

Participation in the planning process will be encouraged and facilitated by various means, including newsletters and open houses or meetings. The NPS will conduct public scoping meetings to explain the planning process and to solicit opinion about issues to address in the GMP/EIS. Notification of all such meetings will be announced in the local press and in NPS newsletters.

ADDRESSES: Written comments and information concerning the scope of the EIS and other matters should be directed to: Ms. Jan Harris, National Park Service, Denver Service Center, P.O. Box 25287, Denver, Colorado 80225. E-mail: jan_harris@nps.gov

Requests to be added to the project mailing list should be sent to Ms. Constance Lemos, Badlands National Park, P.O. Box 6, Interior, SD 57750. Telephone: 605-433-5361, ext. 281. E-mail: constance_lemos@nps.gov

FOR FURTHER INFORMATION CONTACT: Constance Lemos, Badlands National Park, at the address and telephone number listed above.

SUPPLEMENTARY INFORMATION: Badlands National Park consists of nearly 244,000 acres of sharply eroded buttes, pinnacles and spires blended with the largest, protected mixed grass prairie in the United States. The Badlands Wilderness Area is made up of 64,000 acres and is the site of the reintroduction of the black-footed ferret, the most endangered land mammal in North America. The Stronghold Unit is co-managed with the Oglala Sioux Tribe and includes sites of 1890s Ghost Dances. Established as Badlands National Monument in 1939, the area was redesignated “National Park” in 1978. Badlands National Park contains the world's richest Oligocene epoch fossil beds, dating 23 to 35 million years old. The evolution of mammal species such as the horse, sheep, rhinoceros and pig can be studied in the Badlands formations.

In accordance with NPS Park Planning policy, the GMP will ensure the Park has a clearly defined direction for resource preservation and visitor use. It will be developed in consultation with Servicewide program managers, interested parties, and the general public. It will be based on an adequate analysis of existing and potential resource conditions and visitor experiences, environmental impacts, and costs of alternative courses of action.

The environmental review of the GMP/EIS for Historic Site will be conducted in accordance with requirements of the NEPA (42 U.S.C. 4371 et seq.), NEPA regulations (40 CFR 1500-1508), other appropriate Federal regulations, and National Park Service procedures and policies for compliance with those regulations.

Dated: July 10, 2000.
William W. Schenk,
Regional Director.

[FR Doc. 00-18338 Filed 7-19-00; 8:45 am]

BILLING CODE 4310-70-P